DEPARTMENT OF HEALTH AND HUMAN SERVICES

Centers for Disease Control and Prevention

[Docket Number CDC-2016-0001; NIOSH-260-A]

Draft Current Intelligence Bulletin: Health Effects of Occupational Exposure to Silver Nanomaterials; Notice of Public Meeting; Availability of Document for Comment; Extension of Comment Period

AGENCY: National Institute for Occupational Safety and Health (NIOSH) of the Centers for Disease Control and Prevention (CDC), Department of Health and Human Services (HHS).

ACTION: Notice and extension of comment period.

SUMMARY: On January 21, 2016, the Director of the National Institute for Occupational Safety and Health (NIOSH) of the Centers for Disease Control and Prevention (CDC), published a notice in the Federal Register [81 FR 3425] announcing the availability of the following draft document for public comment entitled Draft Current Intelligence Bulletin: Health Effects of Occupational Exposure to Silver Nanomaterials. Written comments were to be received by March 21, 2016. NIOSH is extending the public comment period until April 22, 2016.

DATES: NIOSH is extending the comment period on the document published January 21, 2016 (81 FR 3425). Electronic or written comments must be received by April 22, 2016.

ADDRESSES: You may submit comments, identified by CDC-2016-0001 and docket number NIOSH-260-A, by any of the following methods:

• Federal eRulemaking Portal: www.regulations.gov Follow the instructions for submitting comments.

• Mail: National Institute for Occupational Safety and Health, NIOSH Docket Office, 1090 Tusculum Avenue, MS C-34, Cincinnati, Ohio 45226-1998.

FOR FURTHER INFORMATION CONTACT: Charles Geraci, NIOSH, Education and Information Division, Nanotechnology Research Center, 1090 Tusculum Avenue, Cincinnati, Ohio 45226, telephone (513) 533-8339 (not a toll free number).

Dated: February 3, 2016.
John Howard,
Director, National Institute for Occupational Safety and Health, Centers for Disease Control and Prevention.

[FR Doc. 2016-02647 Filed 2-9-16; 8:45 am]

BILLING CODE 4163-19-P